TRADE REPRESENTATIVE

Request for Comments on an International Services Agreement

AGENCY: Office of the United States Trade Representative.

ACTION: Request for comments and notice of public hearing.

SUMMARY: On January 15, 2013, the United States Trade Representative notified Congress of the Administration's intention to enter into negotiations for an International Services Agreement (ISA) with an initial group of 20 trading partners. The Office of the United States Trade Representative (USTR) is seeking public comments regarding U.S. interests and priorities with regard to this initiative. Comments may be provided in writing and orally at a public hearing.

DATES: Persons wishing to testify orally at the hearing must provide written notification of their intention, as well as their testimony, by February 26, 2013. The hearing will be held in Washington, DC, on March 12, 2013. Written comments are due by noon, February 26, 2013.

ADDRESSES: Submissions via on-line: http://www.regulations.gov. For alternatives to on-line submissions please contact Yvonne Jamison at (202) 395-3475.

FOR FURTHER INFORMATION CONTACT: For questions concerning requirements for written comments, please contact Yvonne Jamison at (202) 395-3475. All other questions regarding this notice should be directed to Amanda Horan at (202) 395-4510.

SUPPLEMENTARY INFORMATION: The following twenty trading partners have expressed their intention to participate in negotiations with the United States to establish an ISA: Australia, Canada, Chile, Chinese Taipei, Colombia, Costa Rica, European Union on behalf of its member states, Hong Kong China, Iceland, Israel, Japan, Korea, Mexico, New Zealand, Norway, Pakistan, Panama, Peru, Switzerland, and Turkey. This group, which may expand as the negotiations proceed, includes a range of developed and developing economies, representing nearly two-thirds of global trade in services.

The agreement envisioned will place a high priority on enabling U.S. service suppliers to compete on the basis of quality and competence rather than nationality. The scope would be comprehensive, permitting the coverage of all services. To remain relevant into the future, the agreement would be flexible enough to address new issues arising in the global marketplace and changes in the way services are traded.

The Chair of the interagency Trade Policy Staff Committee (TPSC) invites interested persons to provide written comments and/or oral testimony at a public hearing that will assist USTR in assessing U.S. objectives for the proposed agreement. The TPSC Chair invites comments on all relevant matters, and, in particular, on the following:

(a) Economic costs and benefits to U.S. service suppliers and consumers of eliminating barriers to services traded either on a cross-border basis or through a foreign commercial presence; (b) existing barriers to trade in services that should be addressed; (c) areas where existing international rules governing services trade, such as those found in the General Agreement on Trade in Services and U.S. free trade agreements, could be strengthened or enhanced; (d) relevant issues related to the supply of services through various modes of supply and technologies.

Public Comment

Requirements for Submissions

A hearing will be held on March 12, 2013, in Rooms 1 and 2, 1724 F Street NW., Washington, DC. Persons wishing to testify at the hearing must provide written notification of their intention by February 26, 2013. The notification should include: (1) The name, address, and telephone number of the person presenting the testimony; and (2) a short (one or two paragraph) summary of the presentation, including the subject matter and, as applicable, the service sector(s) or subjects to be discussed. A copy of the testimony must accompany the notification. Remarks at the hearing should be limited to no more than five minutes to allow for possible questions from the TPSC. Persons with mobility impairments who will need special assistance in gaining access to the hearing should contact Yvonne Jamison at (202) 395-3475.

Persons submitting written comments must do so in English and must identify (on the first page of the submission) “International Services Agreement.” In order to be assured of consideration, comments should be submitted by noon, February 26, 2013. In order to ensure the timely receipt and consideration of comments, USTR strongly encourages commenters to make on-line submissions, using the http://www.regulations.gov Web site. Comments should be submitted under the following docket: USTR-2013-0001. To find the docket, enter the docket number in the “Enter Keyword or ID” window at the http://www.regulations.gov home page and click “Search.” The site will provide a search-results page listing all documents associated with this docket. Find a reference to this notice by selecting “Notices” under “Document Type” on the search-results page, and click on the link entitled “Comment Now!” (For further information on using the http://www.regulations.gov Web site, please consult the resources provided on the Web site by clicking on the “Help” tab.)

The http://www.regulations.gov Web site provides the option of making submissions by filling in a “Type Comment” field, or by attaching a document using the “Upload File” field. USTR prefers submissions to be provided in an attached document. If a document is attached, it is sufficient to type “See attached” in the “Type Comment” field. USTR also prefers submissions in Microsoft Word (.doc) or Adobe Acrobat (.pdf). If the submission is in an application other than those two, please indicate the name of the application in the “Comments” field. For any comments submitted electronically containing business confidential information, the file name of the business confidential version should begin with the characters “BC.” Any page containing business confidential information must be clearly marked “BUSINESS CONFIDENTIAL” on the top of that page. Filers of submissions containing business confidential information must also submit a public version of their comments. The file name of the public version should begin with the character “P.” The “BC” and “P” should be followed by the name of the person or entity submitting the comments or reply comments. Filers submitting comments containing no business confidential information should name their file using the character “P,” followed by the name of the person or entity submitting the comments. Please do not attach separate cover letters to electronic submissions; rather, include any information that might appear in a cover letter in the comments themselves. Similarly, to the extent possible, please include any exhibits, annexes, or other attachments in the same file as the submission itself, not as separate files.

USTR strongly urges submitters to file comments through http://www.regulations.gov, if at all possible. Any alternative arrangements must be made with Yvonne Jamison in advance of transmitting a comment. Ms. Jamison should be contacted at (202) 395-3475. General information concerning USTR is available at http://www.ustr.gov.

Public Inspection of Submissions

Comments will be placed in the docket and open to public inspection, except business confidential information. Comments may be viewed on the http:www.regulations.gov Web site by entering the relevant docket number in the search field on the home page.

Douglas Bell,
Chair, Trade Policy Staff Committee.

[FR Doc. 2013-01497 Filed 1-23-13; 8:45 am]

BILLING CODE 3290-F3-P